DEPARTMENT OF JUSTICE

Antitrust Division

Notice Pursuant to the National Cooperative Research and Production Act of 1993—NAHB Research Center, Inc.

Notice is hereby given that, on September 17, 2004, pursuant to section 6(a) of the National Cooperative Research and Production Act of 1993, 15 U.S.C. 4301 et seq. (“the Act”), NAHB Research Center, Inc. (“NAHB”) has filed written notifications simultaneously with the Attorney General and the Federal Trade Commission disclosing (1) the name and principal place of business of the standards development organization and (2) the nature and scope of its standards development activities. The notifications were filed for the purpose of invoking the Act's provisions limiting the recovery of antitrust plaintiffs to actual damages under specified circumstances.

Pursuant to section 6(b) of the Act, the name and principal place of business of the standards development organization is: NAHB Research Center, Inc., Upper Marlboro, MD. The nature and scope of NAHB's standards development activities are: To develop and publish consensus standards—including products, construction materials and systems, technology, and methodologies that facilitate commerce—in response to needs for performance and prescriptive standards for use in single-family and multi-family housing.

Dorothy B. Fountain,
Deputy Director of Operations, Antitrust Division.

[FR Doc. 04-23523 Filed 10-20-04; 8:45 am]

BILLING CODE 4410-11-M